DEPARTMENT OF JUSTICE

Drug Enforcement Administration

[Docket No. 04-63]

Donley D. Siddall, M.D.; Revocation of Registration

On June 28, 2004, the Deputy Administrator of the Drug Enforcement Administration (DEA) issued an Order to Show Cause to Donley D. Siddall, M.D. (Respondent) of Collegedale, Tennessee. The Order to Show Cause notified the Respondent of an opportunity to show cause as to why DEA should not revoke his DEA Certificate of Registration, AS691100, under 21 U.S.C. 824(a)(3), and deny any pending application for renewal of that registration pursuant to 21 U.S.C. 823(f). The Order to Show Cause further informed the Respondent of the immediate suspension of his registration, alleging that his continued registration would constitute an imminent danger to the public health and safety, pursuant to 21 U.S.C 824(d).

Specifically, the Order to Show Cause alleged in relevant part that effective January 7, 2004 the Tennessee Board of Medical Examiners (Tennessee Board) revoked Respondent's license to practice medicine in that state and as a result, he is not currently authorized to handle controlled substances in Tennessee.

By letter dated August 6, 2004, the Respondent, through his legal counsel, timely requested a hearing in this matter. As part of his hearing request, the Respondent asserted that “* * * [t]he Tennessee Board * * * wrongly revoked [his] medical license * * *.” On August 26, 2004, the presiding Administrative Law Judge Gail A. Randall (Judge Randall) issued to counsel for DEA as well as the Respondent on Order for Prehearing Statements.

In lieu of filing a Pre-hearing Statement, counsel for DEA filed Government's Request for Stay of Proceedings and Motion for Summary Disposition on September 9, 2004. In its motion, the Government recited the primary allegation raised in the Order to Show Cause regarding the January 7, 2004 revocation of the Respondent's Tennessee medical license. In support of its motions, the Government attached a copy of the aforementioned revocation order of the Tennessee Board. Accordingly, the Government argued that a motion for summary disposition is appropriate in this matter and Respondent's DEA Certificate of Registration should be revoked.

On September 29, 2004, counsel for the Respondent filed a Response In Opposition to the Government's Motion for Summary Disposition. In his reply brief, the Respondent argued in relevant part that any action by DEA to dismiss Respondent's right to a hearing would be “premature” since the matter involving the appropriateness of the Tennessee Board's revocation action was being reviewed in state courts. The Respondent also requested that DEA stay the current administrative action until the Tennessee state courts have reached a final decision regarding his state medical license. While he further argued in his reply brief that the Tennessee Board's revocation action was conducted “* * * in an arbitrary and capricious manner”, and that the matter was pending review before the Tennessee courts, the Respondent nevertheless did not deny that he is currently without authorization to handle controlled substances in Tennessee, the state in which he currently holds a DEA registration.

On November 4, 2004, Judge Randall issued her Order, Opinion and Recommended Decision of the Administrative Law Judge (Opinion and Recommended Decision). As part of her recommended ruling, Judge Randall granted the Government's Motion for Summary Disposition and found that the Respondent lacked authorization to handle controlled substances in Tennessee. In granting the Government's motion, Judge Randall also recommended that the Respondent's DEA registration be revoked. No exceptions were filed by either party to Judge Randall's Opinion and Recommended Decision, and on December 7, 2004, the record of these proceedings was transmitted to the Office of the DEA Deputy Administrator.

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds that the Respondent currently possesses DEA Certificate of Registration AS6911007, and is registered to handle controlled substances at a location in Collegedale, Tennessee. As outlined above, the Respondent is currently without authorization to practice medicine in Tennessee following the January 7, 2004, revocation of his state medical license. Notwithstanding the Respondent's request that the DEA administrative matter be stayed pending a resolution of his appeal of the Tennessee Board's revocation order, there is no evidence before the Deputy Administrator that the Respondent has been granted reinstatement of his Tennessee medical license. Therefore, it is reasonable to conclude that without the ability to practice medicine, the Respondent also lacks authorization to handle controlled substances in Tennessee.

DEA does not have statutory authority under the Controlled Substances Act to issue or maintain a registration if the applicant or registrant is without state authority to handle controlled substances in the state in which he conducts business. See 21 U.S.C. 802(21), 823(f) and 824(a)(3). This prerequisite has been consistently upheld. See James Marvin Goodrich, M.D., 70 FR 24619 (2005); Dominick A. Ricci, M.D., 58 FR 51104 (1993); Bobby Watts, M.D., 53 FR 11919 (1988).

Here, it is clear that the Respondent's state medical license has been revoked and there is no information before the Deputy Administrator which points to a rescission or modification of the Tennessee Board's revocation order. As a result, the Respondent is not licensed to handle controlled substances in Tennessee, where he is registered with DEA. Therefore, he is not entitled to maintain that registration.

Accordingly, the Deputy Administrator of the Drug Enforcement Administration, pursuant to the authority vested in her by 21 U.S.C. 823 and 824 and 28 CFR 0.100(b) and 0.014, hereby orders that DEA Certificate of Registration, AS6911007, issued to Donley D. Siddall, M.D., be, and is hereby is, revoked. The Deputy Administrator further orders that any pending applications for renewal or modification of such registration be, and they hereby are, denied.

This order is effective January 27, 2006.

Dated: December 15, 2005.
Michele M. Leonhart,
Deputy Administrator.

[FR Doc. 05-24497 Filed 12-27-05; 8:45am]

BILLING CODE 4410-09-M